DEPARTMENT OF COMMERCE

United States Patent and Trademark Office

Submission for OMB Review; Comment Request; “Patent and Trademark Resource Center Metrics”

The United States Patent and Trademark Office (USPTO) will submit to the Office of Management and Budget (OMB) for clearance the following proposal for collection of information under the provisions of the Paperwork Reduction Act (44 U.S.C. Chapter 35).

Agency: United States Patent and Trademark Office, Commerce.

Title: Patent and Trademark Resource Center Metrics.

OMB Control Number: 0651-0068.

Form Number(s):

• Electronic Worksheet.

Type of Request: Regular.

Number of Respondents: 352 responses per year.

Average Hours per Response: The USPTO estimates that it will take the public approximately 30 minutes (0.50 hours) to complete. This includes the time to gather the necessary information, prepare the worksheet, and submit it to the USPTO.

Burden Hours: 176 hours per year.

Cost Burden: $0 There are no filing fees or start up, maintenance, record keeping, or postage costs associated with this information collection.

Needs and Uses: The participating Patent and Trademark Resource Centers (PTRCs) uses this information collection to provide metrics pertaining to the use of the patent and trademark services by the public, as well as the public outreach efforts of their libraries.

Affected Public: Not-for-profit institutions; Libraries affiliated with the PTRC.

Frequency: On occasion.

Respondent's Obligation: Required to Obtain or Retain Benefits.

OMB Desk Officer: Nicholas A. Fraser, email: Nicholas_A._Fraser@omb.eop.gov. Once submitted, the request will be publicly available in electronic format through www.reginfo.gov. Follow the instructions to view Department of Commerce collections currently under review by OMB.

Further information can be obtained by:

• Email: InformationCollection@uspto.gov. Include “0651-0068 copy request” in the subject line of the message.

• Mail: Marcie Lovett, Records and Information Governance Division Director, Office of the Chief Technology Officer, United States Patent and Trademark Office, P.O. Box 1450, Alexandria, VA 22313-1450.

Written comments and recommendations for the proposed information collection should be sent on or before January 22, 2018 to Nicholas A. Fraser, OMB Desk Officer, via email to Nicholas_A._Fraser@omb.eop.gov, or by fax to 202-395-5167, marked to the attention of Nicholas A. Fraser.

Marcie Lovett,
Records and Information Governance Division Director, OCTO, United States Patent and Trademark Office.

[FR Doc. 2017-27478 Filed 12-20-17; 8:45 am]

BILLING CODE 3510-16-P